DEPARTMENT OF EDUCATION

Notice of Proposed Information Collection Requests; Office of Planning, Evaluation and Policy Development; Annual Mandatory Collection of Elementary and Secondary Education Data Through EDFacts

SUMMARY: The collection, use, and reporting of education data is an integral component of the mission of the U.S. Department of Education (ED). EDFacts, an ED initiative to put performance data at the center of ED's policy, management, and budget decision-making processes for all K-12 educational programs, has transformed the way in which ED collects and uses data. EDFacts provides an electronic submission system for state educational agencies (SEAs), and centralizes within ED the availability of the performance data supplied by SEAs to enable better analysis and use in policy development, planning, and management.

DATES: Interested persons are invited to submit comments on or before November 13, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04929. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Annual Mandatory Collection of Elementary and Secondary Education Data Through EDFacts.

OMB Control Number: 1875-0240.

Type of Review: Revision.

Total Estimated Number of Annual Responses: 55.

Total Estimated Number of Annual Burden Hours: 116,325.

Abstract: ED is currently in the process of collecting data for the 2010-11, 2011-12, and 2012-13 school years as approved by the Office of Management and Budget (OMB) (1875-0240). ED seeks another three-year approval for this collection. The proposed collection includes the 2013-14, 2014-15, and 2015-16 school years. (As part of this approval, it should be understood that ED is authorized to collect the data about these school years over whatever time is required to secure complete and accurate data from each SEA.) ED seeks OMB approval under the Paperwork Reduction Act to collect the elementary and secondary education data from state education agencies as described in the five sections of Attachment B that document all of the data groups. ED encourages the public to review, at a minimum, Attachment C, which outlines the changes between what is currently collected and what is newly proposed for collection. To the extent that any of these proposed new data groups are not available as of the 2013-14 school year, ED seeks to know from the SEA data providers if those data will be available in future years. If information for a data group is not currently available, please provide information beyond the fact that it is not available. Are there specific impediments to providing this data that you can describe? Is the definition for the data group unclear or ambiguous? Do the requested permitted values align with the way your state collects the data? This is very important information because the collecction of these data is mandatory. ED also seeks to know if the SEA data definitions are consistent and compatible with the EDFacts definitions and accurately reflect the way data is stored and used for education by SEAs. The answers to these quesitons by the data providers will influence the timing and content of the final EDFacts proposal for the collection of these data. In addition, ED requests that SEAs and other stakeholders respond to the directed questions found in Attachment D.

Dated: September 6, 2012.
Darrin A. King,
Director, Information Collection Clearance Division, Privacy, Information and Records Management Services, Office of Management.

[FR Doc. 2012-22508 Filed 9-12-12; 8:45 am]

BILLING CODE 4000-01-P